SMALL BUSINESS ADMINISTRATION

[Disaster Declaration #14248 and #14249]

Maine Disaster Number ME-00043

AGENCY: U.S. Small Business Administration.

ACTION: Amendment 1.

SUMMARY: This is an amendment of the Presidential declaration of a major disaster for Public Assistance Only for the State of MAINE (FEMA-4208-DR), dated 03/12/2015.

Incident: Severe Winter Storm, Snowstorm, and Flooding

Incident Period: 01/26/2015 through 01/28/2015

Effective Date: 05/04/2015

Physical Loan Application Deadline Date: 05/11/2015

Economic Injury (EIDL) Loan Application Deadline Date: 12/14/2015

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of MAINE, dated 03/12/2015, is hereby amended to include the following areas as adversely affected by the disaster.

Primary Counties: Sagadahoc.

All other information in the original declaration remains unchanged.

(Catalog of Federal Domestic Assistance Numbers 59002 and 59008)

James E. Rivera,
Associate Administrator for Disaster Assistance.

[FR Doc. 2015-11354 Filed 5-11-15; 8:45 am]

BILLING CODE 8025-01-P